DEPARTMENT OF THE INTERIOR

Bureau of Ocean Energy Management

[OMB Number 1010-0187]

Information Collection: Project Planning for the Use of OCS Sand, Gravel, and Shell Resources in Construction Projects That Qualify for a Negotiated Noncompetitive Agreement; Submitted for OMB Review; Comment Request

ACTION: 30-day notice.

SUMMARY: To comply with the Paperwork Reduction Act of 1995 (PRA), the Bureau of Ocean Energy Management (BOEM) is notifying the public that we have submitted an information collection request (ICR) to the Office of Management and Budget (OMB) for review and approval. This ICR concerns the paperwork requirements that respondents will submit to BOEM to obtain Outer Continental Shelf (OCS) sand, gravel, and shell resources for use in shore protection, beach and coastal restoration, and other authorized projects that qualify for a negotiated noncompetitive agreement. This notice provides the public a second opportunity to comment on the paperwork burden of this collection.

DATES: Submit written comments by April 11, 2014.

ADDRESSES: Submit comments on this ICR to the Desk Officer for the Department of the Interior at OMB-OIRA at (202) 395-5806 (fax) or OIRA_submission@omb.eop.gov (email). Please provide a copy of your comments to the BOEM Information Collection Clearance Officer, Arlene Bajusz, Bureau of Ocean Energy Management, 381 Elden Street, HM-3127, Herndon, Virginia 20170 (mail) or arlene.bajusz@boem.gov (email). Please reference ICR 1010-0187 in your comment and include your name and return address.

FOR FURTHER INFORMATION CONTACT: To obtain information pertaining to this notice and/or the Marine Minerals Program, contact the Program at (703) 787-1215. You may review the ICR online at http://www.reginfo.gov. Follow the instructions to review Department of the Interior collections under review by OMB.

SUPPLEMENTARY INFORMATION: OMB Control Number: 1010-0187.

Title: Project Planning for the Use of OCS Sand, Gravel, and Shell Resources in Construction Projects that Qualify for a Negotiated Noncompetitive Agreement.

Abstract: Under the authority delegated by the Secretary of the Interior, BOEM is authorized, pursuant to section 8(k)(2) of the OCS Lands Act (43 U.S.C. 1337(k)(2)), to convey rights to OCS sand, gravel, and shell resources by negotiated noncompetitive agreement (NNA) for use in shore protection and beach and coastal restoration, or for use in construction projects funded in whole or part by, or authorized by, the Federal Government.

Background

Since 1994, 43 shore protection or beach and coastal restoration projects have been completed using OCS sand resources, conveying more than 77 million cubic yards of OCS material and restoring more than 232 miles of shoreline. Recently, the program has seen an increase in demand for OCS resources due to the decreasing availability of sand sources located in State waters and an increase in coastal storm intensity, duration, and frequency. In order for BOEM to continue to meet the needs of local, State and regional entities, information regarding upcoming projects must be acquired to plan for future projects and anticipated workload. Therefore, BOEM will issue calls for information about needed resources and locations from interested parties to develop and maintain a project schedule.

This ICR addresses the information needed from States, local governments, Federal agencies, environmental and other interest organizations, and all other interested parties to update and maintain a NNA project schedule. It includes the potential for an annual call for information and the potential for a call in response to an emergency declaration, such as a tropical storm. In order to meet the needs of the States under the current BOEM staff and funding resources, BOEM may request the relevant States to prioritize their own projects based on several criteria including likelihood of project funding and progress of environmental work. The information provided by States will also help BOEM determine appropriate future resource allocation, identify potential conflicts of use, conduct environmental analyses, develop NNAs, and meet all necessary environmental and legal requirements.

BOEM's calls for information will request interested parties to submit a description of their proposed projects for which OCS sand, gravel, and shell resources will be used. The description must include the offshore borrow sites if known; the estimated date of construction; a short description of current project funding; the name of a primary point of contact with that person's mailing address, telephone number, and email address; as well as any additional information concerning the status of the project that would be useful to BOEM. This information may include detailed maps; geospatial data and coordinates of desired resources and sites that would be nourished; a description of the environmental impact documents that have been completed to date concerning any portion of the project; a cited reference list; status of geological and geophysical permit (if required); information concerning known or suspected archaeological or historic artifacts; interpretations of geology and extent of sand areas; known volumes of sand resource site; historical data related to the proposed borrow or placement area; and a description of the status of Federal, State, and/or local permits required for the project.

With this renewal, we are also including a provision for a call in response to emergency declarations, such as a tropical storm. Hurricane Sandy demonstrated BOEM's need for accurate and timely information following a natural disaster declaration. Therefore, we are increasing the estimated hour burden for this collection.

We will protect information from respondents considered proprietary under the Freedom of Information Act (5 U.S.C. 552) and its implementing regulations (43 CFR part 2). No items of a sensitive nature are collected. Responses are required to obtain or retain benefits.

Frequency: Annually and on occasion.

Description of Respondents: Potential respondents primarily comprise States, local governments, and other interested parties.

Estimated Reporting and Recordkeeping Hour Burden: We are estimating that the annual reporting burden for this collection is about 200 hours, assuming an emergency declaration is made each year. Individual Entity Compilation: 25 entities × 1 hour/entity × 2 responses/year = 50 hours; Individual State Compilation: 15 States × 5 hours/State × 2 responses/year = 150 hours (50 county hours + 150 State hours = 200 total burden hours).

Estimated Reporting and Recordkeeping Non-Hour Cost Burden: We have identified no non-hour paperwork cost burdens for this collection.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.,) requires each agency “. . . to provide notice . . . and otherwise consult with members of the public and affected agencies concerning each proposed collection of information . . .” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on October 3, 2013, BOEM published a Federal Register notice (78 FR 61381) announcing that we would submit this ICR to OMB for approval. This notice provided the required 60-day comment period. We received no comments in response.

Public Availability of Comments: Before including your address, phone number, email address, or other personal identifying information in your comment, you should be aware that your entire comment—including your personal identifying information—may be made publicly available at any time. While you can ask us in your comment to withhold your personal identifying information from public review, we cannot guarantee that we will be able to do so.

Dated: February 27, 2014.
Deanna Meyer-Pietruszka,
Chief, Office of Policy, Regulations, and Analysis.

[FR Doc. 2014-05300 Filed 3-11-14; 8:45 am]

BILLING CODE 4310-MR-P